DEPARTMENT OF THE TREASURY

Submission for OMB Review; Comment Request

January 19, 2010.

The Department of Treasury will submit the following public information collection requirements to OMB for review and clearance under the Paperwork Reduction Act of 1995, Public Law 104-13 on or after the date of publication of this notice. A copy of this submission may be obtained by calling the Treasury Bureau Clearance Officer listed. Comments regarding this information collection should be addressed to the OMB reviewer listed and to the Treasury PRA Clearance Officer, Department of the Treasury, 1750 Pennsylvania Avenue, NW., Suite 11010, Washington, DC 20220.

DATES: Written comments should be received on or before February 24, 2010 to be assured of consideration.

Internal Revenue Service (IRS)

OMB Number: 1545-0212.

Type of Review: Extension.

Title: Application for Extension of Time to File Certain Employee Plan Returns.

Form: 5558.

Description: This form is used by employers to request an extension of time to file the employee plan annual information return/report (Form 5500 series) or employee plan excise tax return (Form 5330). The data supplied on Form 5558 is used to determine if such extension of time is warranted.

Respondents: Businesses or other for-profits.

Estimated Total Burden Hours: 131,555 hours.

OMB Number: 1545-1546.

Type of Review: Extension.

Title: Revenue Procedure 97-33, EFTPS (Electronic Federal Tax Payment System).

Description: Some taxpayers are required by regulations issued under Sec. 6302 (h) of the Internal Revenue Code to make Federal Tax Deposits (FTDs) using the Electronic Federal Tax Payment System (EFTPS). Other taxpayers may choose to voluntarily participate in EFTPS. EFTPS requires that a taxpayer complete an enrollment form to provide the information the IRS needs to properly credit the taxpayer's account. Revenue 97-33 provides procedures and information that will help taxpayers to electronically make FTDs and tax payments through EFTPS.

Respondents: Businesses or other for-profits.

Estimated Total Burden Hours: 278,622 hours.

OMB Number: 1545-0052.

Type of Review: Extension.

Title: Form 990-PF, Return of Private Foundation or Section 4947(a)(1) Nonexempt Charitable Trust Treated as a Private Foundation, and Form 4720, Return of Certain Excise Taxes on Charities and Other.

Form: 990-PF, 4720, 4720 sch I.

Description: IRC section 6033 requires all private foundations, including section 4947(a)(1) trusts treated as private foundations, to file an annual information return. Section 53.4940-1(a) of the Income Tax Regulations requires that the tax on net investment income be reported on the return filed under section 6033. Form 990-PF is used for this purpose. Section 6011 requires a report of taxes under Chapter 42 of the Code for prohibited acts by private foundation and certain related parties. Form 4720 is used by foundations and/or related persons to report prohibited activities in detail and pay the tax on them.

Respondents: Not-for-profit institutions.

Estimated Total Burden Hours: 11,052,594 hours.

OMB Number: 1545-2020.

Type of Review: Extension.

Title: Information Returns Required with Respect to Certain Foreign Corporations and Certain Foreign-Owned Domestic Corporations.

Description: This document contains final and temporary regulations that provide guidance under section 6038 and 6038A of the Internal Revenue Code. The final regulations under Sec. 1.6038-2 are revised to remove and replace obsolete references to a form and IRS offices. The temporary regulations clarify the information required to be furnished regarding certain related party transactions of certain foreign corporations and certain foreign-owned domestic corporations. Specifically, in addition to the types of transactions listed in Sec. 1.6038-2(f)(11) taxpayers are required to report the sales of tangible property other than stock in trade on Form 5471.

Respondents: Businesses or other for-profits.

Estimated Total Burden Hours: 1,250 hours.

OMB Number: 1545-0687.

Type of Review: Revision.

Title: Exempt Organization Business Income Tax Return.

Form: 990-T.

Description: Form 990-T is needed to compute the section 511 tax on unrelated business income of a charitable organization. IRS uses the information to enforce the tax.

Respondents: Not-for-profit institutions.

Estimated Total Burden Hours: 5,262,319 hours.

OMB Number: 1545-1696.

Type of Review: Extension.

Title: Political Organization Report on Contributions and Expenditures.

Form: 8872.

Description: Internal Revenue Code section 527(j) requires certain political organizations to report certain contributions received and expenditures made after July 1, 2000. Every section 527 political organization that accepts a contribution or makes an expenditure for an exempt function during the calendar year must file Form 8872, except for: A political organization that is not required to file Form 8871, or a state or local committee of a political party or political committee of a state or local candidate.

Respondents: Not-for-profit institutions.

Estimated Total Burden Hours: 431,200 hours.

OMB Number: 1545-1707.

Type of Review: Extension.

Title: REG-106511-00 Estate Tax; Form 706, Extension to File (TD 8957 (final)).

Description: This collection involves regulations relating to the filing of an application for an automatic 6-month extension of time to file an estate tax return (Form 706). The regulations provide guidance to executors of decedents' estates on how to properly file the application for the automatic extension.

Respondents: Individuals or Households.

Estimated Total Burden Hours: 1 hour.

OMB Number: 1545-0123.

Type of Review: Revision.

Title: Form 1120, U.S. Corp. Income Tax Return, Schedule D, Capital Gains and Losses, Schedule H, Section 280H Limitations for a Personal Service Corporation (PSC), Schedule N, Foreign* * *

Form: Form 1120, Schedule B (Form 1120), Schedule D (Form 1120), Schedule G (Form 1120), Schedule H (Form 1120), Schedule L, Schedule M-1 (Form 1120), Schedule M-2 (Form 1120), Schedule M-3 (Form 1120), Schedule N (Form 1120), Schedule O (Form 1120), Schedule PH (Form 1120).

Description: Use Form 1120, U.S. Corporation Income Tax Return, to report the income, gains, losses, deductions, credits, and to figure the income tax liability of a corporation.

Respondents: Businesses or other for-profits and Farms.

Estimated Total Burden Hours: 362,808,467 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Celina Elphage,
Treasury PRA Clearance Officer.

[FR Doc. 2010-1255 Filed 1-22-10; 8:45 am]

BILLING CODE 4830-01-P